DEPARTMENT OF JUSTICE

Notice of Lodging of Consent Decree Under the Clean Water Act

Notice is hereby given that on March 8, 2006, a proposed Second Modified Consent Decree (“proposed Decree”) in United States v. Puerto Rico Administration of Corrections, Civil Action No. 90-2119, was lodged with the United States District Court for the District of Puerto Rico.

In this action the United States sought penalties and injunctive relief for violations by the Puerto Rico Administration of Corrections (“PRAC”) of a Supplemental Consent Decree entered on February 14, 1997 (“1997 Decree”). The 1997 Decree resolved claims for violations by PRAC of a Consent Decree entered in this action on June 3, 1992, of National Pollutant Discharge Elimination System permits, and of Sections 301, 309 and 402 of the Clean Water Act, 33 U.S.C. 1311, 1319 and 1342. The proposed Decree requires PRAC to: (1) Pay $500,000 in stipulated penalties for violations of the 1997 Decree; (2) complete a previously required safe drinking water supply system for a rural Puerto Rican community; and (3) conduct inspections of a component of a wastewater pump station.

For a period of thirty (30) days following the date of this publication, the U.S. Department of Justice will accept comments relating to the proposed Decree. Comments should be addressed to the Assistant General, c/o David Weigert, Environmental and Natural Resources Division, U.S. Department of Justice, P.O. Box 7611, Ben Franklin Station, Washington, DC 20044-7611, and should refer to United States v. Puerto Rico Administration of Corrections, Civil Action No. 90-2119, D.J. Ref. No. 90-5-1-1-3364/1.

The proposed Decree may be examined at the Office of the United States Attorney, c/o Isabel Muñoz, Torre Chardón, Suite 1201, 350 Carlos Chardón Avenue, San Juan, Puerto Rico, and at the office of the U.S. Environmental Protection Agency Region 2, Caribbean Environmental Protection Division, c/o José A. Rivera, 1492 Ponce de Leon Avenue, Centro Europa Building, Suite 417, San Juan, Puerto Rico. During the public comment period, the proposed Decree may also be examined on the following Department of Justice Web site, http://www.usdoj.gov/enrd/open.html. Copies of the proposed Decree may also be obtained by mail from the U.S. Department of Justice, Consent Decree Library; P.O. Box 7611, Ben Franklin Station, Washington, DC 20044-7611, or by faxing or e-mailing a request to Tonia Fleetwood (tonia.fleetwood@usdoj.gov), fax no. (202) 514-0097, phone confirmation number (202) 514-1547. In requesting a copy from the Consent Decree Library, please enclose a check in the amount of $16.00 (25 cents per page reproduction cost) payable to the U.S. Treasury or, if by e-mail of fax, forward a check in that amount to the Consent Decree Library at the stated address.

Ronald G. Gluck,
Assistant Section Chief, Environmental Enforcement Section, Environment and Natural Resources Division, U.S. Department of Justice.

[FR Doc. 06-3026 Filed 3-28-06; 8:45 am]

BILLING CODE 4410-15-M